DEPARTMENT OF ENERGY

Federal Energy Regulatory Commission

Combined Notice of Filings #1

Take notice that the Commission received the following exempt wholesale generator filings:

Docket Numbers: EG14-22-000.

Applicants: Macho Springs Solar, LLC.

Description: Notice of Self-Certification of Exempt Wholesale Generator Status.

Filed Date: 12/20/13.

Accession Number: 20131220-5359.

Comments Due: 5 p.m. ET 1/10/14.

Take notice that the Commission received the following electric rate filings:

Docket Numbers: ER04-835-000, EL04-103-000.

Applicants: California Independent System Operator Corporation, Pacific Gas and Electric Company.

Description: Informational Refund Report of California Independent System Operator Corporation.

Filed Date: 12/20/13.

Accession Number: 20131220-5425.

Comments Due: 5 p.m. ET 1/10/14.

Docket Numbers: ER10-1801-002; ER10-1808-003; ER10-1805-003; ER10-2370-001; ER10-1811-002.

Applicants: The Connecticut Light and Power Company, Western Massachusetts Electric Company, Public Service Company of New Hampshire, NSTAR Electric Company, Select Energy, Inc.

Description: Triennial Market Analysis Update of the NU MBR Companies and Select Energy, Inc.

Filed Date: 12/20/13.

Accession Number: 20131220-5414.

Comments Due: 5 p.m. ET 2/18/14.

Docket Numbers: ER10-2822-005; ER11-2462-004; ER11-2463-004; ER11-2464-004; ER11-2465-004; ER10-2994-009; ER11-2466-004; ER11-2467-004; ER11-2468-004; ER11-2469-004; ER11-2470-004; ER11-2471-004; ER11-2472-004; ER11-2473-004; ER11-2196-005; ER11-2474-006; ER11-2475-004.

Applicants: Iberdrola Renewables, LLC, Atlantic Renewable Projects II LLC, Big Horn Wind Project LLC, Big Horn II Wind Project LLC, Colorado Green Holdings LLC, Hay Canyon Wind LLC, Juniper Canyon Wind Power LLC, Klamath Energy LLC, Klamath Generation LLC, Klondike Wind Power LLC, Klondike Wind Power II LLC, Klondike Wind Power III LLC, Leaning Juniper Wind Power II LLC, Pebble Springs Wind LLC, San Luis Solar LLC, Star Point Wind Project LLC, Twin Buttes Wind LLC.

Description: Updated Market Power Analysis for the Northwest Region of the Iberdrola MBR Sellers.

Filed Date: 12/20/13.

Accession Number: 20131220-5417.

Comments Due: 5 p.m. ET 2/18/14.

Docket Numbers: ER10-2997-003; ER10-3003-003; ER10-3018-003; ER10-3015-003; ER10-3016-003; ER10-2992-003; ER10-3030-003; ER10-2990-003.

Applicants: Atlantic City Electric Company, Bethlehem Renewable Energy, LLC, Delmarva Power & Light Company, Eastern Landfill Gas, LLC, Fauquier Landfill Gas, LLC, Pepco Energy Services, Inc., Potomac Electric Power Company, Potomac Power Resources, LLC.

Description: Triennial Market-Based Rate Update Filing for the Northeast Region of the PHI Entities.

Filed Date: 12/20/13.

Accession Number: 20131220-5427.

Comments Due: 5 p.m. ET 2/18/14.

Docket Numbers: ER11-47-003; ER11-46-006; ER10-2975-006; ER10-2981-003; ER11-41-003; ER12-2343-001; ER13-1896-003.

Applicants: Appalachian Power Company, AEP Energy Partners, Inc., CSW Energy Services, Inc., AEP Texas Central Company, AEP Retail Energy Partners, AEP Energy, Inc. AEP Generation Resources Inc.

Description: Triennial Market Analysis Update of the AEP MBR affiliates located in PJM balancing area authority.

Filed Date: 12/20/13.

Accession Number: 20131220-5413.

Comments Due: 5 p.m. ET 2/18/14.

Docket Numbers: ER12-952-002; ER13-1141-001; ER13-1142-001; ER13-1143-002; ER13-1144-002; ER10-2196-001.

Applicants: Essential Power, LLC, Essential Power Massachusetts, LLC, Essential Power Newington, LLC, Essential Power OPP, LLC, Essential Power Rock Springs, LLC, Lakewood Cogeneration, L.P.

Description: Triennial Market-Based Rate Update Filing for the Northeast Region of the EP Entities.

Filed Date: 12/20/13.

Accession Number: 20131220-5428.

Comments Due: 5 p.m. ET 2/18/14.

Docket Numbers: ER13-738-002; ER11-3097-006; ER10-1212-005; ER10-1186-005; ER10-1277-005; ER10-1211-005; ER10-1188-005.

Applicants: DTE Electric Company, DTE Energy Trading, Inc., DTE River Rouge No. 1, L.L.C., DTE Energy Supply, Inc., DTE East China, LLC, DTE Pontiac North, LLC, DTE Stoneman, LLC.

Description: Notice of Change in Status of the DTE MBR Entities.

Filed Date: 12/20/13.

Accession Number: 20131220-5412.

Comments Due: 5 p.m. ET 1/10/14.

Docket Numbers: ER13-1872-002.

Applicants: Southwest Power Pool, Inc.

Description: Southwest Power Pool, Inc. submits 2562 KMEA NITSA NOA—Compliance Filing to be effective 6/1/2013.

Filed Date: 12/20/13.

Accession Number: 20131220-5320.

Comments Due: 5 p.m. ET 1/10/14.

Docket Numbers: ER13-2484-001.

Applicants: California Independent System Operator Corporation.

Description: California Independent System Operator Corporation submits 2013-12-20_IPE-GIP_Compliance to be effective 12/3/2013.

Filed Date: 12/20/13.

Accession Number: 20131220-5333.

Comments Due: 5 p.m. ET 1/10/14.

Docket Numbers: ER14-70-001.

Applicants: Tampa Electric Company.

Description: Tampa Electric Company submits Second Revised Rate Schedule No. 83 Trilateral Agreement w_SEC and HPP to be effective 12/20/2013.

Filed Date: 12/20/13.

Accession Number: 20131220-5303.

Comments Due: 5 p.m. ET 1/10/14.

Docket Numbers: ER14-460-001.

Applicants: Appalachian Power Company.

Description: Appalachian Power Company submits 20131220 TCC Att K Update to be effective 1/24/2014.

Filed Date: 12/20/13.

Accession Number: 20131220-5265.

Comments Due: 5 p.m. ET 1/10/14.

Docket Numbers: ER14-786-000.

Applicants: Ameren Illinois Company.

Description: Ameren Illinois Company submits Sectionalizing Switch Replacement LA with IMEA and RECC to be effective 11/21/2013.

Filed Date: 12/20/13.

Accession Number: 20131220-5330.

Comments Due: 5 p.m. ET 1/10/14.

Docket Numbers: ER14-787-000.

Applicants: Macho Springs Solar, LLC.

Description: Macho Springs Solar, LLC submits Application for Initial Market-Based Rate Tariff and Granting Certain Waivers to be effective 1/1/2014.

Filed Date: 12/20/13.

Accession Number: 20131220-5334.

Comments Due: 5 p.m. ET 1/10/14.

Docket Numbers: ER14-788-000.

Applicants: Southwest Power Pool, Inc.

Description: Southwest Power Pool, Inc. submits 2631 Kansas Municipal Energy Agency NITSA NOA to be effective 11/2/2013.

Filed Date: 12/20/13.

Accession Number: 20131220-5336.

Comments Due: 5 p.m. ET 1/10/14.

Docket Numbers: ER14-789-000.

Applicants: Lake Benton Power Partners LLC.

Description: Lake Benton Power Partners LLC submits Lake Benton Amendment 3 Filing to be effective 2/19/2014.

Filed Date: 12/20/13.

Accession Number: 20131220-5338.

Comments Due: 5 p.m. ET 1/10/14.

Docket Numbers: ER14-790-000.

Applicants: Midcontinent Independent System Operator, Inc.

Description: Midcontinent Independent System Operator, Inc. submits 12-20-13 Manitoba Hydro JOA Name Change to be effective 2/18/2014.

Filed Date: 12/20/13.

Accession Number: 20131220-5350.

Comments Due: 5 p.m. ET 1/10/14.

Docket Numbers: ER14-791-000.

Applicants: Southwest Power Pool, Inc.

Description: Southwest Power Pool, Inc. submits 1534R4 Kansas Municipal Energy Agency NITSA NOA to be effective 12/1/2013.

Filed Date: 12/20/13.

Accession Number: 20131220-5362.

Comments Due: 5 p.m. ET 1/10/14.

Docket Numbers: ER14-792-000.

Applicants: NorthWestern Corporation.

Description: NorthWestern Corporation submits SA 697—NITSA with City of Great Falls to be effective 3/1/2014.

Filed Date: 12/20/13.

Accession Number: 20131220-5363.

Comments Due: 5 p.m. ET 1/10/14.

Docket Numbers: ER14-793-000.

Applicants: The Empire District Electric Company.

Description: The Empire District Electric Company submits Revised MBR Tariff to be effective 12/31/9998.

Filed Date: 12/20/13.

Accession Number: 20131220-5364.

Comments Due: 5 p.m. ET 1/10/14.

Docket Numbers: ER14-794-000.

Applicants: Southwest Power Pool, Inc.

Description: Southwest Power Pool, Inc. submits Termination of Rate Schedule 12 Seams Agreement with Entergy Services, Inc. to be effective 12/19/2013.

Filed Date: 12/20/13.

Accession Number: 20131220-5369.

Comments Due: 5 p.m. ET 1/10/14.

Docket Numbers: ER14-795-000.

Applicants: Tyr Energy LLC.

Description: Tyr Energy LLC submits Amendment to MBR—Order 784 to be effective 12/21/2013.

Filed Date: 12/20/13.

Accession Number: 20131220-5370.

Comments Due: 5 p.m. ET 1/10/14.

Docket Numbers: ER14-796-000.

Applicants: Black Hills Power, Inc.

Description: Black Hills Power, Inc. submits Order No. 784 Compliance Filing to be effective 2/18/2014.

Filed Date: 12/20/13.

Accession Number: 20131220-5371.

Comments Due: 5 p.m. ET 1/10/14.

Docket Numbers: ER14-797-000.

Applicants: Black Hills/Colorado Electric Utility Company, LP.

Description: Black Hills/Colorado Electric Utility Company, LP submits Order No. 784 Compliance Filing to be effective 2/18/2014.

Filed Date: 12/20/13.

Accession Number: 20131220-5372.

Comments Due: 5 p.m. ET 1/10/14.

Docket Numbers: ER14-798-000.

Applicants: Cheyenne Light, Fuel and Power Company.

Description: Cheyenne Light, Fuel and Power Company submits Order No. 784 Compliance Filing to be effective 2/18/2014.

Filed Date: 12/20/13.

Accession Number: 20131220-5373.

Comments Due: 5 p.m. ET 1/10/14.

Docket Numbers: ER14-799-000.

Applicants: Pacific Gas and Electric Company.

Description: Pacific Gas and Electric Company submits Transmission Access Charge Balancing Account Adjustment (TACBAA) 2014 to be effective 3/1/2014.

Filed Date: 12/20/13.

Accession Number: 20131220-5379.

Comments Due: 5 p.m. ET 1/10/14.

Docket Numbers: ER14-800-000.

Applicants: Pacific Gas and Electric Company.

Description: Pacific Gas and Electric Company submits Certificate of Concurrence re WECC Unscheduled Flow Mitigation Plan in ER14-778 to be effective 1/1/2014.

Filed Date: 12/20/13.

Accession Number: 20131220-5381.

Comments Due: 5 p.m. ET 1/10/14.

Docket Numbers: ER14-801-000.

Applicants: Midcontinent Independent System Operator, Inc.

Description: Midcontinent Independent System Operator, Inc. submits 12-20-2013 GVTC Filing_ER14-_-000 to be effective 2/21/2014.

Filed Date: 12/20/13.

Accession Number: 20131220-5388.

Comments Due: 5 p.m. ET 1/10/14.

Docket Numbers: ER14-802-000.

Applicants: Valley Electric Association, Inc.

Description: Valley Electric Association, Inc. submits Annual TRBAA Update to be effective 1/1/2014.

Filed Date: 12/20/13.

Accession Number: 20131220-5391.

Comments Due: 5 p.m. ET 1/10/14.

Take notice that the Commission received the following electric reliability filings:

Docket Numbers: RR13-10-001.

Applicants: North American Electric Reliability Corporation.

Description: Compliance filing of North American Electric Reliability Corporation regarding its Delegation Agreement with the Western Electricity Coordinating Council.

Filed Date: 12/20/13.

Accession Number: 20131220-5407.

Comments Due: 5 p.m. ET 1/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2013.
Nathaniel J. Davis, Sr.,
Deputy Secretary.

[FR Doc. 2013-31385 Filed 12-31-13; 8:45 am]

BILLING CODE 6717-01-P